DEPARTMENT OF COMMERCE

National Oceanic and Atmospheric Administration

50 CFR Part 648

[Docket No. 151130999-682603]

RIN 0648-XE336

Fisheries of the Northeastern United States; Atlantic Bluefish Fishery; 2016-2018 Atlantic Bluefish Specifications; Correction

AGENCY: National Marine Fisheries Service (NMFS), National Oceanic and Atmospheric Administration (NOAA), Commerce.

ACTION: Final rule; correction.

SUMMARY: This action corrects the recreational harvest limit value published in the 2016-2018 Atlantic bluefish specifications final rule, which is effective August 1, 2016, through December 31, 2018. This action is necessary and intended to ensure the correct 2016-2018 bluefish recreational harvest limit values are provided to the public.

DATES: This correction is effective September 27, 2016.

ADDRESSES: Information on the August 4, 2016, final rule (81 FR 51370), which includes an Environmental Assessment and Initial Regulatory Flexibility Analysis (EA/IRFA) and other supporting documents for the specifications, are available via the Internet at www.regulations.gov.

FOR FURTHER INFORMATION CONTACT: Reid Lichwell, Fishery Management Specialist, (978) 281-9112.

SUPPLEMENTARY INFORMATION:

Background

The August 4, 2016, final rule (81 FR 51370) set catch limit specifications (i.e., commercial and recreational fishery quotas) for the 2016-2018 Atlantic bluefish fishery, and is effective August 1, 2016, through December 31, 2018. As part of that final rule, consistent with the Atlantic Bluefish Fishery Management Plan (FMP) specification setting process, specific recreational harvest limits were derived and provided to the public.

Classification

The Assistant Administrator (AA) for Fisheries, NOAA, finds that pursuant to 5 U.S.C. 553(b)(B), there is good cause to waive prior notice and an opportunity for public comment on this action, as notice and comment are unnecessary and would be contrary to the public interest. This correcting amendment implements regulations as recommended by the Council and as described in the preambles to the harvest specification and management measures proposed rule (81 FR 18559, March 31, 2016) and final rule (81 FR 51370, August 4, 2016). The derivation process was correctly described in the proposed and final rules; however, the recreational harvest limit (RHL) was inadvertently published incorrectly at page 51371 of the final rule in “Table 1, Final 2016-1018 Bluefish Specifications.” There would be no value in soliciting further comment on the corrected value in this rule, as the public has already had opportunity to review and comment on the process used to derive the RHL. It would be contrary to the public interest to delay implementation of the correction in this rule, because it will cause public confusion. For the reasons above, the AA also finds good cause under 5 U.S.C. 553(d)(3) to waive the 30-day delay in effectiveness and makes this rule effective immediately upon publication.

Need for Correction

The August 4, 2016, final rule outlined the calculations for the final specifications in a table, but one line of the table was inadvertently incorrectly updated when the most up to date recreational landings data for 2015 became available during the final processing stage of the rule. The table titled “Final 2016-2018 Bluefish Specifications”, as published on page 51371 of the final rule incorrectly indicated in the last row that the recreational harvest limit (RHL) was 13,158,843 lb (1,500 mt) for 2016; 14,143,295 lb (6,414 mt) for 2017; and 15,116,768 lb (6,857 mt) for 2018. The corrected RHL for all three years is 11,581,548 lb (5,253 mt).

Correction

On page 51371 of the August 4, 2016, final rule (81 FR 51370), table 1 is corrected to read as follows:

Table 1—Corrected Final 2016-2018 Atlantic Bluefish Specifications
| 2016: lb | 2016: mt | 2017: lb | 2017: mt | 2018: lb | 2018: mt
OFL | 25,763,220 | 11,686 | 26,444,448 | 11,995 | 27,972,252 | 12,688
ABC | 19,455,796 | 8,825 | 20,641,883 | 9,363 | 21,814,742 | 9,895
ACL | 19,455,796 | 8,825 | 20,641,883 | 9,363 | 21,814,742 | 9,895
Management Uncertainty | 0 | 0 | 0 | 0 | 0 | 0
Commercial ACT | 3,307,485 | 1,500 | 3,509,120 | 1,592 | 3,708,506 | 1,682
Recreational ACT | 16,148,311 | 7,325 | 17,132,763 | 7,770 | 18,106,236 | 8,213
Commercial Discards | 0 | 0 | 0 | 0 | 0 | 0
Recreational Discards | 2,989,468 | 1,356 | 2,989,468 | 1,356 | 2,989,468 | 1,356
Commercial TAL | 3,307,485 | 1,500 | 3,509,120 | 1,592 | 3,708,506 | 1,682
Recreational TAL | 13,158,843 | 5,969 | 14,143,295 | 6,414 | 15,116,768 | 6,857
Combined TAL | 16,466,328 | 7,469 | 17,652,415 | 8,006 | 18,825,274 | 8,539
Expected Recreational Landings | 11,581,548 | 5,253 | 11,581,548 | 5,253 | 11,581,548 | 5,253
Transfer | 1,577,295 | 715 | 2,561,747 | 1,161 | 3,535,220 | 1,604
Commercial Quota | 4,884,780 | 2,215 | 6,070,867 | 2,753 | 7,243,726 | 3,286
Recreational Harvest Limit | 11,581,548 | 5,253 | 11,581,548 | 5,253 | 11,581,548 | 5,253

Authority: 16 U.S.C. 1801 et seq.

Dated: September 16, 2016.
Samuel D. Rauch III,
Deputy Assistant Administrator for Regulatory Programs, National Marine Fisheries Service.

[FR Doc. 2016-23216 Filed 9-26-16; 8:45 am]

BILLING CODE 3510-22-P